DEPARTMENT OF AGRICULTURE

Natural Resources Conservation Service

Supplemental Watershed Plan No. 1 and Environmental Assessment for Big Slough Watershed, Clay County, AR

AGENCY: Natural Resources Conservation Service, USDA.

ACTION: Notice of a Finding of No Significant Impact.

SUMMARY: Pursuant to Section 102(2)(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for the Big Slough Watershed Supplement No.1, Clay County, Arkansas.

FOR FURTHER INFORMATION CONTACT: Kalven L. Trice, State Conservationist, Natural Resources Conservation Service, Rm 3416 Federal Building, 700 West Capital Avenue, Little Rock, AR 72201-3225, Telephone (501) 301-3121.

SUPPLEMENTARY INFORMATION: The environmental assessment of this federally assisted action indicates that the project will not cause significant local, regional, or national impacts on the environment. As a result of these findings, Kalven L. Trice, State Conservationist, has determined that the preparation and review of an environmental impact statement is not needed for this project.

This project will allow the installation of seven floodwater retarding structures (FWRS Nos. 1, 2, 3, 6, 7, 10, and 11) to be constructed and will provide storage for flood prevention and 100-year sediment storage. All seven structures will be designed and constructed as high hazard dams, capable of safely storing and discharging the runoff from the Probable Maximum Precipitation (PMP) storm without overtopping the dams.

Federal assistance will be provided under the authority of the Flood Prevention Program authorized by the Watershed Protection and Flood Prevention Act (Pub. L. 83-566), as amended.

The notice of a Finding of No Significant Impact (FONSI) has been forwarded to the Environmental Protection Agency and to various Federal, State, and local agencies and interested parties. A limited number of copies of the FONSI are available to fill single copy requests at the above address. Basic data developed during the environmental assessment are on file and may be reviewed by contacting Kalven L. Trice, State Conservationist.

No administrative action on implementation of the proposal will be taken until 30 days after the date of this publication in the Federal Register.

Dated: June 22, 2009.
Kalven L. Trice,
State Conservationist.

[FR Doc. E9-15711 Filed 7-2-09; 8:45 am]

BILLING CODE 3410-16-P